DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 3 individuals and 1 entity whose property and interests in property are blocked pursuant to Executive Order 13224 of September 23, 2001, “Blocking Property and Prohibiting Transactions With Persons Who Commit, Threaten To Commit, or Support Terrorism.”

DATES: OFAC's actions described in this notice were effective on May 11, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On May 11, 2017, OFAC blocked the property and interests in property of the following 3 individuals and 1 entity pursuant to E.O. 13224, “Blocking Property and Prohibiting Transactions With Persons Who Commit, Threaten To Commit, or Support Terrorism”:

Individuals

1. RAHMAN, Inayat ur (a.k.a. AL RAHMAN, Inayat al Rahman bin Sheikh Jamil; a.k.a. AL-RAHMAN, `Inayat; a.k.a. AL-RAHMAN, `Inayat al-Rahman bin Sheikh Jamil; a.k.a. AL-RAHMAN, 'Inayat al-Rahman Bin al-Sheikh Jamil; a.k.a. JALIL, Inayatullah ur-Rahman; a.k.a. JAMEAL, `Anayet el-Rahman; a.k.a. JAMEEL, Inayat; a.k.a. JAMIL, Enayat al-Rahman; a.k.a. JAMIL, Enayaturrahman; a.k.a. JAMIL, Enayetul Rahman; a.k.a. JAMIL, Inayat al-Rahman; a.k.a. RAHMAN, Anayat ur; a.k.a. RAHMAN, Anayatullah; a.k.a. RAHMAN, Enayat al; a.k.a. RAHMAN, Enayatullah; a.k.a. RAHMAN, Inayatu; a.k.a. RAHMAN, Inayat-u-; a.k.a. RAHMAN, Inayatullah; a.k.a. RAHMAN, Inayat-ur-; a.k.a. REHMAN, Inayat; a.k.a. REHMAN, Inayat ur; a.k.a. UR-RAHMAN, Anayat; a.k.a. UR-RAHMAN, Anyat; a.k.a. UR-RAHMAN, Enayat; a.k.a. UR-RAHMAN, Jamil Inayat; a.k.a. “AINAYATURAHMAN”; a.k.a. “ANAYATURAHMAN”; a.k.a. “INAYATURAHMAN”; a.k.a. “INAYATURRAHMAN”), Saidabad Pajagi Road, Peshawar, Pakistan; DOB 02 Dec 1973; POB Nangalam Village, Manugay District, Afghanistan; nationality Pakistan; Gender Male; Passport BG1744461 (Pakistan); National ID No. 1730156254465 (Pakistan) (individual) [SDGT] (Linked To: JAMA'AT UL DAWA AL-QU'RAN; Linked To: TALIBAN; Linked To: LASHKAR E-TAYYIBA).

2. TURAB, Ali Muhammad Abu (a.k.a. ABUTURAB, Ali Muhammad; a.k.a. MOHAMMAD, Ali Mohammad Abutorab Noor; a.k.a. MOHAMMAD, Ali Mohammad Noor; a.k.a. MOHD, Ali Mohd Abutorab Noor; a.k.a. MUHAMMAD, Abu Turab Ali; a.k.a. MUHAMMED, Ali Muhammed Noor; a.k.a. TORAB, Abu Ali; a.k.a. TORAB, Ali Mohammad Abu; a.k.a. TURAB, Ali Mohammad Abu; a.k.a. TURAB, Ali Mohammed Abu; a.k.a. “MOHAMMED, Ali”; a.k.a. “TURAB, Abu”), Jamia Salfia, Airport Road, Quetta, Pakistan; Patel Road, Quetta, Pakistan; Saudi Arabia; DOB 10 Sep 1964; alt. DOB 05 Jan 1968; POB Quetta, Balochistan, Pakistan; nationality Pakistan; Gender Male; Passport J349992 (Pakistan); National ID No. 2083655452 (Saudi Arabia) (individual) [SDGT] (Linked To: JAMA'AT UL DAWA AL-QU'RAN; Linked To: AMEEN AL-PESHAWARI, Fazeel-A-Tul Shaykh Abu Mohammed).

3. MUHAMMAD, Hayat Ullah Ghulam (a.k.a. HAYAATULLAH, Haji; a.k.a. HAYATOLLAH, Haji; a.k.a. HAYATULLAH, Haji; a.k.a. HIYATULLAH, Haji), Saeedabad, Pagi Road, Peshawar, Pakistan; Saeedabad, Pachagi Road, Peshawar, Pakistan; DOB 1957 to 1959; POB Nangalam Village, Dar-e-Pech, Kunar, Afghanistan; Gender Male; Passport TR030544 (Afghanistan); alt. Passport TR035506 (Afghanistan) (individual) [SDGT] (Linked To: JAMA'AT UL DAWA AL-QU'RAN; Linked To: LASHKAR E-TAYYIBA; Linked To: TALIBAN; Linked To: ISIL KHORASAN; Linked To: AL QA'IDA; Linked To: ISLAMIC STATE OF IRAQ AND THE LEVANT).

Entity

1. WELFARE AND DEVELOPMENT ORGANIZATION OF JAMAAT-UD-DAWAH FOR QUR'AN AND SUNNAH (a.k.a. AL-MUNADAMA AL-KHAYRIA LILTANMIA; a.k.a. AL-MUNADDAMA AL-KAIRYIA LIL-TANMIYA OF JAMA'AT AL-DA'WAH ILA AL-QUR'AN WA-AL-SUNNAH; a.k.a. M/S WELFARE & DEVELOPMENT ORGANIZATION; a.k.a. MASHARIA AL-KHAYRIA; a.k.a. MASHARYA AL-KHAIRYA; a.k.a. WELFARE AND DEVELOPMENT ORGANIZATION IN AFGHANISTAN; a.k.a. WELFARE AND DEVELOPMENT ORGANIZATION IN PAKISTAN; a.k.a. WELFARE AND DEVELOPMENT ORGANIZATION OF ADVOCACY GROUP TO THE KORAN AND SUNNAH; a.k.a. WELFARE AND DEVELOPMENT ORGANIZATION OF JAMA'AT AL-DA'WAH LI-L-QUR'AN WA-L-SUNNA; a.k.a. WELFARE AND DEVELOPMENT ORGANIZATION OF JAMA'AT AL-DA'WAH ILA AL-QUR'AN WA-AL-SUNNAH; a.k.a. WELFARE AND DEVELOPMENT ORGANIZATION OF THE GROUP FOR THE CALL TO QUR'AN AND SUNNAH; a.k.a. “WDO”; a.k.a. “WELFARE & DEVELOPMENT ORGANIZATION”; a.k.a. “WELFARE AND DEVELOPMENT ORG”; a.k.a. “WELFARE AND DEVELOPMENT ORGANIZATION”), P.O. Box 1202, Badhi Road, Chamkani, Peshawar 25000, Pakistan; 81-E/A, Old Bara Road, University Town, Peshawar 25000, Pakistan; P.O. Box 769, University Town, Peshawar, Pakistan; 45 D/3, Old Jamrud Road, University Town, Peshawar 25000, Pakistan; Shahen Town, House 46, near airport, Peshawar, Pakistan; Jalalabad, Nangarhar, Afghanistan; Upper Chatter Near Water Supply, Muzaffarabad, Azad Jammu and Kashmir, Pakistan; Registration ID F.5 (29) AR-11/2002 (Pakistan); alt. Registration ID 827 (Afghanistan) [SDGT] (Linked To: RAHMAN, Inayat ur).

Dated: May 11, 2017.
Andrea Gacki,
Acting Director, Office of Foreign Assets Control.

[FR Doc. 2017-09874 Filed 5-15-17; 8:45 am]

BILLING CODE 4810-AL-P